DEPARTMENT OF THE INTERIOR

Bureau of Ocean Energy Management

[Docket No. BOEM-14-0075]

Request for Information on the Development of a Long Term Monitoring Plan for Marine Mammals in the Gulf of Mexico; MMAA104000

AGENCY: Bureau of Ocean Energy Management (BOEM), Interior.

ACTION: Request for information.

SUMMARY: BOEM, in cooperation with the National Marine Fisheries Service (NMFS), is issuing a request for information to aid in the development of a long-term monitoring plan (LTMP) for marine mammals in the Gulf of Mexico (GOM). The LTMP will focus on the potential impacts to marine mammals from geological and geophysical data acquisition activities, including seismic surveys. This LTMP is a required element of BOEM's petition for rulemaking under the Marine Mammal Protection Act (MMPA).

SUPPLEMENTARY INFORMATION: Section 101(a)(5) of the MMPA (16 U.S.C. 1371(a)(5)) directs the Secretary of Commerce to allow, upon request by U.S. citizens who engage in a specified activity (other than commercial fishing) within a specified geographical region, the incidental but not intentional, taking of marine mammals by citizens, providing that certain findings are made and the necessary measures are established, including requirements pertaining to monitoring. NMFS' implementing regulations direct that a request for incidental take authorization include “the suggested means of accomplishing the necessary monitoring and reporting that will result in increased knowledge of the species, the level of taking or impacts on populations of marine mammals that are expected to be present while conducting activities, and suggested means of minimizing burdens by coordinating such reporting requirements with other schemes already applicable. . . .” (50 CFR 216.104(a)(13)). These regulations also direct that a monitoring plan include “a description of the survey techniques that would be used to determine the movement and activity of marine mammals near the activity site(s) . . . .” Id.

BOEM is seeking public input on development of this LTMP as outlined in paragraphs 1-4 below; however, it will only consider comments that are relevant to marine mammal species that occur in the GOM (http://www.nmfs.noaa.gov/pr/sars/pdf/ao2012_summary.pdf) and the potential effects of geological and geophysical survey activities on those species. Please refer to http://www.boem.gov/Oil-and-Gas-Energy-Program/GOMR/G-and-G-Survey-Techniques-Information-Sheet.aspx for information on the types of geological and geophysical survey activities that may be proposed for use in the GOM.

(1) BOEM is seeking input on monitoring measures that will improve our understanding of the occurrence of marine mammal species in the GOM (e.g., presence, abundance, distribution, density); individual responses to acute stressors or impacts of chronic exposure to stressors (behavioral or physiological); how anticipated responses to stressors impact either long-term fitness and survival of an individual or the larger population, stock, or species; mitigation and monitoring effectiveness; and the nature, scope, or context of likely marine mammal exposure to potential stressors/impacts (individual or cumulative, acute or chronic).

(2) With regard to the nature, scope and context of marine mammal exposure, BOEM and NMFS are looking for a better understanding of the relationships among the geological and geophysical activities and existing environment (e.g., source characterization, propagation, ambient noise); the affected species (e.g., life history, dive patterns); co-occurrence of marine mammal species with the geological and geophysical activities; and the biological or behavioral context of exposure (e.g., age, calving or feeding areas).

(3) BOEM requests information related to the appropriate scope of this LTMP; study objectives necessary to increase understanding of the affected species; the effects of geological and geophysical survey activities on these species in both the short- and long-term; discrete study questions that will inform these objectives; and scientific methods (study design, methodology, or technology) to test these questions.

(4) BOEM requests information regarding existing or upcoming marine mammal research efforts that may inform development of this LTMP, or with which it may be appropriate for this effort to coordinate to achieve monitoring goals, including those related to marine mammals in the GOM or monitoring programs worldwide aimed at long-term assessment of the effects of geological and geophysical activities on marine mammals. BOEM expects that this LTMP will be adaptive and will leverage existing monitoring efforts when feasible.

(5) BOEM requests information pertaining to any other long-term monitoring plans for marine mammals that have been proposed or implemented, including those in other countries and regions.

Comments: All interested parties may submit written comments on the development of the LTMP. BOEM will accept comments in either of the following two formats:

1. Comments may be submitted via the Federal eRulemaking Portal at http://www.regulations.gov. Search for: “Request for Information on the Development of a Long Term Monitoring Plan for Marine Mammals in the Gulf of Mexico”. (Note: It is recommended to include the quotation marks in your search terms.) You may also search via BOEM-14-0075. Click on the “Comment Now!” button to the right of the document link. Enter your information and comment, then click “Submit.”

2. Comments may be submitted via email to monitoringplan@boem.gov with the subject line labeled “Request for Information, Gulf of Mexico Long Term Monitoring Plan”.

DATES: Comments must be received on or before December 8, 2014.

Public Disclosure of Names and Addresses: BOEM does not consider anonymous comments; please include your name and address as part of your submittal. BOEM makes all comments, including the names and addresses of respondents, available for public review during regular business hours. Individual respondents may request that BOEM withhold their names and/or addresses from the public record; however, BOEM cannot guarantee that we will be able to do so. If you wish your name and/or address to be withheld, you must state your preference prominently at the beginning of your comment. All submissions from organizations or businesses and from individuals identifying themselves as representatives or officials of organizations or businesses will be made available for public inspection in their entirety.

FOR FURTHER INFORMATION CONTACT: Jennifer R. Laliberté, jennifer.laliberte@boem.gov. Please note that written comments will not be accepted at this email address. All written comments must be submitted in the manner described under the “Comments” section provided above.

Dated: November 3, 2014.
Walter D. Cruickshank,
Acting Director, Bureau of Ocean Energy Management.

[FR Doc. 2014-26520 Filed 11-6-14; 8:45 am]

BILLING CODE 4310-MR-P